DEPARTMENT OF COMMERCE

National Oceanic and Atmospheric Administration

DEPARTMENT OF THE INTERIOR

Fish and Wildlife Service

50 CFR Part 404

[Docket No.: 140226179-4179-01]

RIN 0648-BE02

Administrative Updates to Papahānaumokuākea Marine National Monument Regulations

AGENCY: Office of National Marine Sanctuaries (ONMS), National Oceanic and Atmospheric Administration (NOAA), Department of Commerce (DOC); United States Fish and Wildlife Service (USFWS), Department of the Interior (DOI).

ACTION: Direct final rule.

SUMMARY: This final rule makes administrative and procedural changes to the applicable regulations with corrected addresses and fax numbers because the offices of Papahānaumokuākea Marine National Monument have moved.

DATES: These regulations are effective on July 31, 2014.

FOR FURTHER INFORMATION CONTACT: Tia Brown, Office of National Marine Sanctuaries, NOAA Inouye Regional Center, 1845 Wasp Blvd., Building 176, Honolulu, HI 96818. Phone: 808-725-5805. Email: Tia.Brown@noaa.gov.

SUPPLEMENTARY INFORMATION:

Electronic Access: This Federal Register document is also accessible via the Internet at http://www.gpoaccess.gov/fr/index.html.

I. Summary of Rulemaking

NOAA and USFWS are amending ONMS regulations (50 CFR part 404) to reflect the recent change in address and phone numbers for the Papahānaumokuākea Marine National Monument for general questions and inquiries, permit application processing and vessel reporting requirements. The old address currently appears in section 404.11(b) under “Permitting procedures and criteria.” The old address will be replaced with “NOAA/Inouye Regional Center; NOS/ONMS/PMNM/Attn: Permit Coordinator; 1845 Wasp Blvd., Building 176; Honolulu, HI 96818.”

In addition, the local Hawai`i based phone number for vessel notifications, 808-395-6944, will be removed from the regulations. The toll-free phone number 1-866-478-6944 will remain active. The fax number listed for the ship reporting system will be changed to 1-808-455-3093.

NOAA is also updating the title of the regulations, to reflect the current name of the monument, based on Presidential Proclamation 8112. The name in the regulation will be changed from “Northwestern Hawaiian Islands Marine National Monument” as it currently reads in the regulations to “Papahānaumokuākea Marine National Monument.”

II. Classifications

A. Administrative Procedures Act

This rule pertains solely to the organization and correction of existing rules and related administrative changes necessitated by the office relocation of the Papahānaumokuākea Marine National Monument. It makes no changes to the substantive legal rights, obligations, or interests of affected parties. This rule therefore is a “rule of agency organization, procedure or practice” and is therefore exempt from the notice-and-comment requirements of 5 U.S.C. 553 under 5 U.S.C. 553(b)(A).

B. National Environmental Policy Act

The amendments to the regulations identified in this document do not have significant environmental impacts and are categorically excluded from the need to prepare an environmental assessment pursuant to the National Environmental Policy Act. Specifically, the changes to update codified addresses are administrative in nature, and are thus categorically excluded by NOAA Administrative Order 216-6 Section 6.03c.3(i).

C. Executive Order 12866: Regulatory Impact

This rule has been determined to be not significant within the meaning of Executive Order 12866.

D. Executive Order 13132: Federalism Assessment

NOAA has concluded this regulatory action does not have federalism implications sufficient to warrant preparation of a federalism assessment under Executive Order 13132.

E. Paperwork Reduction Act

This rule does not contain any new or revisions to the existing information collection requirement that was approved by OMB (OMB Control Number 0648-0548) under the Paperwork Reduction Act (PRA), 44 U.S.C. 3501 et seq.

Notwithstanding any other provision of the law, no person is required to respond to, nor shall any person be subject to a penalty for failure to comply with, a collection of information subject to the requirements of the PRA, unless that collection of information displays a currently valid OMB Control Number.

F. Regulatory Flexibility Act

This regulation is exempt from the notice and comment provisions of the Administrative Procedures Act (APA), 5 U.S.C. 553. Therefore, the requirements of the Regulatory Flexibility Act do not apply, 5 U.S.C. 603(a). No other rule requires a regulatory flexibility analysis and none has been prepared.

List of Subjects in 50 CFR Part 404

Administrative practice and procedure, Environmental protection, Marine resources, Natural resources, Permits, Recreation and recreation areas, Research, Water pollution control, Water resources, Wildlife, Historic preservation, Intergovernmental relations, Marine resources, Monuments and memorials, Natural resources, Reporting and recordkeeping requirements, Wildlife, Wildlife refuges.

Holly A. Bamford,
Assistant Administrator, National Ocean Service.
Dated: July 24, 2014.
Daniel M. Ashe,
Director, U.S. Fish and Wildlife Service.

Accordingly, for the reasons set forth above, 50 CFR part 404 is amended as follows:

PART 404—PAPAHĀNAUMOKUĀKEA MARINE NATIONAL MONUMENT

1. The authority citation for part 404 continues to read as follows:

Authority: 16 U.S.C. 431 et seq.; 16 U.S.C. 460k-3; 16. U.S.C. 1801 et seq.; 16 U.S.C. 742f, 16 U.S.C. 742l, and 16 U.S.C. 668dd-ee; 16 U.S.C. 1361 et seq.; 16 U.S.C. 1531 et seq., Pub. L. 106-513, § 6(g) (2000).

2. Revise the heading for part 404 to read as set forth above.

3. Amend § 404.4 by revising paragraph (f)(1)(iii) to read as follows:

§ 404.4 Access to Monument.

* * * * *

(f) * * *

(1) * * *

(iii) Fax: 1-808-455-3093

* * * * *

4. Amend § 404.11 by revising paragraph (b) to read as follows:

§ 404.11 Permitting procedures and criteria.

* * * * *

(b) Application requirements. Applicants for permits under this section shall submit applications to: NOAA/Inouye Regional Center; NOS/ONMS/PMNM/Attn: Permit Coordinator; 1845 Wasp Blvd., Building 176; Honolulu, HI 96818.

* * * * *

5. Amend Appendix E to Part 404, by revising paragraphs E.2 and E.3 to read as follows:

Appendix E to Part 404—Content and Syntax for Papahānaumokuākea Ship Reporting System

* * * * *

E.2 Prior Notification of Entry Format

Vessels of the United States less than 300 gross tonnage that are not equipped with onboard email capability must provide the following notification of entry at least 72 hrs, but no longer than 1 month, prior to entry date, utilizing the data syntax described above. Notification may be made via the following communication methods, listed in order of preference: Email [nwhi.notifications@noaa.gov]; fax [1-808-455-3093]; telephone [1-866-478-NWHI (6944)].

* * * * *

E.3 Exit Notification Format

Immediately upon leaving the Reporting Area, vessels required to participate must provide the following information. Vessels of the United States less than 300 gross tonnage that are not equipped with onboard email capability must provide the following Exit Notification information within 12 hrs of leaving the Reporting Area. Notification may be made via the following communication methods, listed in order of preference: Email [nwhi.notifications@noaa.gov]; fax [1-808-455-3093]; telephone [1-866-478-NWHI (6944)].

* * * * *

[FR Doc. 2014-18005 Filed 7-30-14; 8:45 am]

BILLING CODE 3510-NK-P